DEPARTMENT OF LABOR

Employment and Training Administration

[TA-W-75,023]

Chrysler Group, LLC, Power Train Division, Mack Avenue Engine Plant #1, Including On-Site Leased Workers From Caravan Knight, Detroit, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 6, 2011, applicable to workers of Chrysler Group, LLC, Power Train Division, Mack Avenue Engine Plant #1, including on-site leased workers of Caravan Knight, Detroit, Michigan. The workers are engaged in the production of automotive engines. The notice will be published soon in the Federal Register.

At the request of the State Agency, the Department reviewed the certification for workers of the subject firm. The review shows that on December 4, 2008, a certification of eligibility to apply for adjustment assistance was issued for all workers of Chrysler LLC, Mack Avenue Engine Plants 1 & 2, Power Train Division, Detroit, Michigan, separated from employment on or after October 30, 2007 through December 4, 2010. The notice was published in the Federal Register on December 18, 2008 (73 FR 77067).

In order to avoid an overlap in worker group coverage, the Department is amending the December 16, 2009 impact date established for TA-W-75,023, to read December 5, 2010.

The amended notice applicable to TA-W-75,023 is hereby issued as follows:

All workers of Chrysler Group, LLC, Power Train Division, Mack Avenue Engine Plant #1, including on-site leased workers of Caravan Knight, Detroit, Michigan, who became totally or partially separated from employment on or after December 5, 2010, through April 6, 2013, and all workers in the group threatened with total or partial separation from employment on date of certification through two years from the date of certification, are eligible to apply for adjustment assistance under Chapter 2 of Title II of the Trade Act of 1974, as amended.

Signed in Washington, DC, this 12th day of April 2011.
Del Min Amy Chen,
Certifying Officer, Office of Trade Adjustment Assistance.

[FR Doc. 2011-9840 Filed 4-21-11; 8:45 am]

BILLING CODE 4510-FN-P